DEPARTMENT OF AGRICULTURE

Submission for OMB Review; Comment Request

January 8, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by February 12, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Tomatoes from France, Morocco, Western Sahara, Chile, and Spain.

Control Number: 0579-0131.

Summary of Collection: The Plant Protection Act (PPA, 7 U.S.C. 7701 et seq.) authorizes the Secretary of Agriculture to restrict the importation, entry, or interstate movement of plants, plant products, and other articles within the United States to prevent the introduction of plant pests or their dissemination. The Animal and Plant Health Inspection Service (APHIS) Plant Protection and Quarantine (PPQ) Program enforces the Act by regulating the importation of fruits and vegetables into the United States. These regulations are found in Section 319 of the Code of Federal Regulations (CFR) under “Subpart—Fruits and Vegetables” (7 CFR 319.56-1 through 319.56-80). Under § 319.56-28, fresh tomatoes from France, Morocco, Western Sahara, Chile, and Spain may be imported into the continental United States under certain conditions that prevent the introduction of plant pests into the country.

Need and Use of the Information: APHIS will use information collection activities and actions to ensure these conditions are met. These activities include greenhouse, production site, and treatment facility registration; a trust fund agreement; documented quality control program; box labeling; application for import permit; appeal of denial or revocation of a permit; notice of arrival; emergency action notification; and recordkeeping. Also, consignments of tomatoes must be accompanied by phytosanitary certificates issued by the National Plant Protection Organization (NPPO) or similar agency of the country of origin with an additional declaration stating that the provisions of § 319.56-28 for the respective country have been met. These activities for this commodity are the minimum necessary to protect crops and the agriculture industry from dangerous plant pests and diseases.

Description of Respondents: Growers, Importers, and Foreign Governments.

Number of Respondents: 20.

Frequency of Responses: Recordkeeping; Reporting: On occasion; Third party disclosure.

Total Burden Hours: 2,832.

Animal and Plant Health Inspection Service

Title: Importation of Litchi and Longan Fruit from Vietnam into the Continental United States

OMB Control Number: 0579-0387.

Summary of Collection: Under the Plant Protection Act (PPA) (7 U.S.C 7701— et seq), the Secretary of Agriculture is authorized to restrict the importation, entry, or interstate movement of plants, plant products, and other articles within the United States to prevent the introduction of plant pests or their dissemination. The Animal and Plant Health Inspection Service (APHIS) Plant Protection and Quarantine (PPQ) Program enforces the Act by regulating the importation of fruits and vegetables into the United States.

Need and Use of the Information: Under § 319.56-70, litchi and longan fruit from Vietnam may be imported into the continental United States except Florida only under certain conditions to ensure it is free of insect plant pests and disease. The following information collection activities are used to ensure these conditions are met: Application for Permit to Import Plant or Plant Products; Appeal of Denial or Revocation of Permit; Orchard Registration; Labeling “Not for Importation into or Distribution in F”; Phytosanitary Certificate with Additional Declaration; Notice of Arrival; Emergency Action Notification; and Recordkeeping.

Description of Respondents: Business or other for-profit; Federal Government.

Number of Respondents: 7.

Frequency of Responses: Recordkeeping; Reporting: On occasion.

Total Burden Hours: 31,019

Ruth Brown,
Departmental Information Collection Clearance Officer.

[FR Doc. 2018-00334 Filed 1-10-18; 8:45 am]

BILLING CODE 3410-34-P